DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Participant Feedback on Training Under the Cooperative Agreement for Mental Health Care Provider Education in HIV/AIDS Program (OMB No. 0930-0195)—Extension

The Substance Abuse and Mental Health Services Administration's (SAMHSA) Center for Mental Health Services (CMHS) intends to continue to conduct a multi-site assessment for the Mental Health Care Provider Education in HIV/AIDS Program. There are no changes to the forms or the burden hours.

The education programs are funded under a cooperative agreement that are designed to disseminate knowledge of the psychological and neuropsychiatric sequelae of HIV/AIDS to both traditional (e.g., psychiatrists, psychologists, nurses, primary care physicians, medical students, and social workers) and non-traditional (e.g., clergy, and alternative health care workers) first-line providers of mental health services, in particular to providers in minority communities.

The multi-site assessment is designed to assess the effectiveness of particular training curricula, document the integrity of training delivery formats, and assess the effectiveness of the various training delivery formats. Analyses will assist CMHS in documenting the numbers and types of traditional and non-traditional mental health providers accessing training; the content, nature and types of training participants receive; and the extent to which trainees experience knowledge, skill and attitude gains/changes as a result of training attendance. The multi-site data collection design uses a two-tiered data collection and analytic strategy to collect information on (1) the organization and delivery of training, and (2) the impact of training on participants' knowledge, skills and abilities.

The annual burden estimates for this activity are shown in the table below.

Annual Burden Estimate
Annualized Burden Estimates and Costs: Mental Health Care Provider Education in HIV/AIDS Program (10 sites): Form | Annualized Burden Estimates and Costs: Mental Health Care Provider Education in HIV/AIDS Program (10 sites): Number of respondents | Annualized Burden Estimates and Costs: Mental Health Care Provider Education in HIV/AIDS Program (10 sites): Responses per respondent | Annualized Burden Estimates and Costs: Mental Health Care Provider Education in HIV/AIDS Program (10 sites): Total responses | Annualized Burden Estimates and Costs: Mental Health Care Provider Education in HIV/AIDS Program (10 sites): Hours per response | Annualized Burden Estimates and Costs: Mental Health Care Provider Education in HIV/AIDS Program (10 sites): Total hour burden
All Sessions
One form per session completed by program staff/trainer
Session Report Form | 600 | 1 | 600 | 0.08 | 48
Participant Feedback Form (General Education) | 5,000 | 1 | 5,000 | 0.167 | 835
Neuropsychiatric Participant Feedback Form | 4,000 | 1 | 4,000 | 0.167 | 668
Adherence Participant Feedback Form | 1,000 | 1 | 1,000 | 0.167 | 167
Ethics Participant Feedback Form | 2,000 | 1 | 2,000 | 0.167 | 125
Total | 12,600 |  | 12,600 |  | 1,843

Written comments and recommendations concerning the proposed information collection should be sent by June 26, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-10734 Filed 5-24-17; 8:45 am]

BILLING CODE 4162-20-P